DEPARTMENT OF HEALTH AND HUMAN SERVICES

Food and Drug Administration

21 CFR Chapter I

[Docket No. FDA-2013-N-0001]

Medical Gas Regulation Review; Announcement of Public Meeting; Correction

AGENCY: Food and Drug Administration, HHS.

ACTION: Notice of public meeting; correction.

SUMMARY: The Food and Drug Administration is correcting a document that appeared in the Federal Register of November 1, 2013 (78 FR 65588). The document announced a public meeting entitled “Medical Gas Regulation Review.” The document was published with an incorrect Web site. This document corrects that error.

DATES: Effective November 25, 2013.

FOR FURTHER INFORMATION CONTACT: Mary Gross, Office of Executive Programs, Food and Drug Administration, 10903 New Hampshire Ave., Silver Spring, MD 20993-0002, 301-796-3519, FAX: 301-847-8753, email: Mary.Gross@fda.hhs.gov; or Christine Kirk, Center for Drug Evaluation and Research, Food and Drug Administration, 10903 New Hampshire Ave., Silver Spring, MD 20993-0002, 301-796-2465, FAX: 301-847-8440, email: Christine.Kirk@fda.hhs.gov; or Urvi Desai, Center for Veterinary Medicine, Food and Drug Administration, 7500 Standish Pl., Rockville, MD 20855, email: Urvi.Desai@fda.hhs.gov.

SUPPLEMENTARY INFORMATION: In the Federal Register of Friday, November 1, 2013, in FR Doc. 2013-26056, on page 65588 the following corrections are made:

1. In the third column, in the last sentence of the second paragraph under Registration and Requests for Oral Presentations, “http://www.fda.gov/Drugs/NewEvents/ucm370351.htm” is corrected to read “http://www.fda.gov/Drugs/NewsEvents/ucm370351.htm”.

2. In the third column, in the first sentence of the third paragraph under Registration and Requests for Oral Presentations, “http://www.fda.gov/Drugs/NewEvents/ucm370351.htm” is corrected to read “http://www.fda.gov/Drugs/NewsEvents/ucm370351.htm”.

Dated: November 19, 2013.
Leslie Kux,
Assistant Commissioner for Policy.

[FR Doc. 2013-28083 Filed 11-22-13; 8:45 am]

BILLING CODE 4160-01-P